DEPARTMENT OF THE TREASURY

Internal Revenue Service

Internal Revenue Service Advisory Council; Meeting

AGENCY: Internal Revenue Service, Department of Treasury.

ACTION: Notice of meeting.

SUMMARY: The Internal Revenue Service Advisory Council will hold a public meeting.

DATES: The meeting will be held Wednesday, April 26, 2023.

ADDRESSES: The meeting will be held via telephone conference line.

FOR FURTHER INFORMATION CONTACT: Ms. Anna Brown, Office of National Public Liaison, at 202-317-6564 or send an email to PublicLiaison@irs.gov.

SUPPLEMENTARY INFORMATION: Notice is hereby given pursuant to 5 U.S.C. 10(a)(2) of the Federal Advisory Committee Act, that a public meeting via conference line of the Internal Revenue Service Advisory Council (IRSAC) will be held on Wednesday, April 26, 2023, to discuss topics that may be recommended for inclusion in a future report of the Council. The meeting will take place at 3:00 p.m. Eastern Time.

To confirm your attendance, members of the public may contact Anna Brown at 202-317-6564 or send an email to PublicLiaison@irs.gov. Attendees are encouraged to join at least five minutes before the meeting begins.

Should you wish the IRSAC to consider a written statement germane to the Council's work, please call 202-317-6564 or email PublicLiaison@irs.gov.

Dated: March 24, 2023.
John A. Lipold,
Designated Federal Official, Office of National Public Liaison, Internal Revenue Service.

[FR Doc. 2023-06567 Filed 3-29-23; 8:45 am]

BILLING CODE P